SMALL BUSINESS ADMINISTRATION

Military Reservist Economic Injury Disaster Loans Interest Rate for Third Quarter FY 2016

In accordance with the Code of Federal Regulations 13—Business Credit and Assistance § 123.512, the following interest rate is effective for Military Reservist Economic Injury Disaster Loans approved on or after April 22, 2016.

Military Reservist Loan Program—4.000%

Dated: April 21, 2016.
James E. Rivera,
Associate Administrator for Disaster Assistance.

[FR Doc. 2016-10072 Filed 4-28-16; 8:45 am]

BILLING CODE 8025-01-P